DEPARTMENT OF COMMERCE

International Trade Administration

[A-565-801]

Stainless Steel Butt-Weld Pipe Fittings from the Philippines: Notice of Rescission of Antidumping Duty Administrative Review

AGENCY: Import Administration, International Trade Administration, Department of Commerce.

EFFECTIVE DATE: July 7, 2006.

FOR FURTHER INFORMATION CONTACT: Fred Baker or Robert James, AD/CVD Operations, Office 7, Import Administration, International Trade Administration, U.S. Department of Commerce, 14th Street and Constitution Avenue, NW, Washington, DC 20230; telephone: (202) 482 2924 or (202) 482-0649, respectively.

SUPPLEMENTARY INFORMATION:

Background

On February 1, 2006, the Department published in the Federal Register (71 FR 5239) a notice of “Opportunity to Request an Administrative Review” of the antidumping duty order on stainless steel butt-weld pipe fittings from the Philippines for the period February 1, 2005, through January 31, 2006. On February 28, 2006, petitioners (Flowline Division of Markovitz Enterprises, Inc., Gerlin, Inc., Shaw Alloy Piping Products, Inc., and Taylor Forge Stainless, Inc.) requested an administrative review of Tung Fong Industrial Co., Inc. (Tung Fong) and Enlin Steel Corporation (Enlin) for this period. On April 5, 2006, the Department published a notice of initiation of an administrative review of the antidumping duty order on stainless steel butt-weld pipe fittings from the Philippines with respect to these two companies. See Initiation of Antidumping and Countervailing Duty Administrative Reviews and Deferral of Administrative Reviews, 71 FR 17077 (April 5, 2006).

Rescission of Review

On June 19, 2006, petitioners withdrew their request for an administrative review of Tung Fong's and Enlin's sales during the above-referenced period. Section 351.213(d)(1) of the Department's regulations stipulates that the Secretary will rescind an administrative review if the party that requests a review withdraws the request within 90 days of the date of publication of notice of initiation of the requested review. In this case, petitioners have withdrawn their request for review within the 90-day period. Petitioners were the sole party to request this review. Therefore, we are rescinding this review of the antidumping duty order on stainless steel butt-weld pipe fittings from the Philippines.

This notice is published in accordance with sections 751(a)(1) of the Tariff Act of 1930, as amended, and 19 CFR 351.213(d)(4).

Dated: June 30, 2006.
Stephen J. Claeys,
Deputy Assistant Secretary for Import Administration.

[FR Doc. E6-10665 Filed 7-6-06; 8:45 am]

BILLING CODE 3510-DS-S